DEPARTMENT OF DEFENSE

Office of the Secretary

[Transmittal No. 22-0P]

Arms Sales Notification

AGENCY: Defense Security Cooperation Agency, Department of Defense (DoD).

ACTION: Arms sales notice.

SUMMARY: The DoD is publishing the unclassified text of an arms sales notification.

FOR FURTHER INFORMATION CONTACT: Neil Hedlund at neil.g.hedlund.civ@mail.mil or (703) 697-9214.

SUPPLEMENTARY INFORMATION: This 36(b)(5)(C) arms sales notification is published to fulfill the requirements of section 155 of Public Law 104-164 dated July 21, 1996. The following is a copy of a letter to the Speaker of the House of Representatives with attached Transmittal 22-0P.

Dated: August 5, 2024.
Aaron T. Siegel,
Alternate OSD Federal Register Liaison Officer, Department of Defense.

Transmittal No. 22-0P

REPORT OF ENHANCEMENT OR UPGRADE OF SENSITIVITY OF TECHNOLOGY OR CAPABILITY (SEC. 36(B)(5)(C), AECA)

(i) Purchaser: Government of Australia

(ii) Sec. 36(b)(1), AECA Transmittal No.: 21-61

Date: October 8, 2021

Military Department: Navy

(iii) Description: On October 8, 2021, Congress was notified by Congressional certification transmittal number 21-61, of the possible sale, under Section 36(b)(1) of the Arms Export Control Act, of twelve (12) MH-60R Multi-Mission helicopters; thirty (30) T-700-GE-401C engines (24 installed, 6 spares); twelve (12) APS-153(V) Multi-Mode Radars (installed); twelve (12) AN/AAS-44C(V) Multi-Spectral Targeting Systems (installed); thirty-four (34) Embedded Global Positioning System/Precise Positioning Service (GPS/PPS)/Inertial Navigation Systems (EGI) with Selective Availability/Anti-Spoofing Module (SAASM) (24 installed, 10 spares); twenty (20) Link 16 Multifunctional Information Distribution Systems (MIDS)—Joint Tactical Radio System (JTRS) (12 installed, 8 spares); twelve (12) GAU-61 Digital Rocket Launchers (aircraft provisions only); twelve (12) Airborne Low Frequency Sonars (ALFS) (aircraft provisions only); eighteen (18) AN/AAR-47 Missile Warning Systems (12 installed, 6 spares); eighteen (18) AN/ALE-47 Chaff and Flare Dispenser, Electronic Countermeasures (12 installed, 6 spares); twelve (12) AN/ALQ-210 Electronic Support Measures (ESM) Systems (installed); twenty-four (24) M299 Missile Launchers; twelve (12) GAU-21 Crew Served Guns aircraft provisions (installed, includes aircraft adapter, ammunition bin, and other accessories); twelve (12) M240D Crew Served Gun Cradles (installed); and eighteen (18) AN/ARQ-59 Hawklink Radio Terminals (12 installed, 6 spares). Also included were AN/ARC-210 RT-2036 UHF/VHF radios with Communications Security (COMSEC); AN/APX-123 Identification Friend or Foe (IFF) transponders; KIV-78; KIV-6; KOV-21; KGV-135A; Advanced Data Transfer Systems (ADTS); Airborne Low Frequency Sonars (ALFS) Training Simulators/Operational Machine Interface Assistants (ATS OMIA); spare engine containers; trade studies with industry to determine the feasibility and cost of implementing provisions for additional passenger seating and modifications to achieve enhanced crew survivability; defense services; spare and repair parts; support and test equipment; communication equipment; ferry support; publications and technical documentation; personnel training and training equipment; United States (U.S.) Government and contractor engineering, technical, and logistics support services; obsolescence engineering, integration, and test activities required to ensure readiness for the production of the Australian MH-60R helicopters; and other related elements of programmatic, technical and logistics support. The estimated total cost was $985 million. Major Defense Equipment (MDE) constituted $665 million of this total.

This transmittal notifies the addition of the following MDE items: one (1) MH-60R Multi-Mission helicopter; two (2) T-700-GE-401C engines (installed); two (2) Embedded Global Positioning System/Precise Positioning Service (GPS/PPS)/Inertial Navigation Systems (EGI) with Selective Availability/Anti-Spoofing Module (SAASM) (installed); and one (1) Link 16 Multifunctional Information Distribution Systems (MIDS)—Joint Tactical Radio System (JTRS) (installed). Also included is non-MDE APS-153(V) multi-mode radar; AN/AAS-44C(V) Multi-Spectral Targeting System; AN/AAR-47 Missile Warning System; AN/ALE-47 Chaff and Flare Dispenser, Electronic Countermeasures; AN/ALQ-210 Electronic Support Measures (ESM) System; and AN/ARQ-59 Hawklink radio terminal. The estimated total value of these items is $49.21 million, but will not cause an increase in the total estimated program cost. The total estimated case value will remain $985 million with MDE remaining $665 million of this total.

(iv) Significance: The proposed sale will improve Australia's capability to perform anti-surface and antisubmarine warfare missions along with the ability to perform secondary missions including vertical replenishment, search and rescue, and communications relay. Australia will use the enhanced capability as a deterrent to regional threats and to strengthen its homeland defense.

(v) Justification: This proposed sale will support the foreign policy and national security objectives of the United States. Australia is one of our most important allies in the Western Pacific. The strategic location of this political and economic power contributes significantly to ensuring peace and economic stability in the region. It is vital to the U.S. national interest to assist our ally in developing and maintaining a strong and ready self-defense capability.

(vi) Sensitivity of Technology: The Sensitivity of Technology Statement contained in the original notification applies to items reported here.

(vii) Date Report Delivered to Congress: November 2, 2022

[FR Doc. 2024-17588 Filed 8-7-24; 8:45 am]

BILLING CODE 6001-FR-P